DEPARTMENT OF COMMERCE

National Institute of Standards and Technology

National Semiconductor Technology Center Selection Committee

AGENCY: National Institute of Standards and Technology, Department of Commerce.

ACTION: Solicitation of nominations.

SUMMARY: The Department of Commerce (“Department”) seeks nominations for immediate consideration for a Selection Committee that will play an important role in the success of the national semiconductor technology center (“NSTC”), a public private-sector consortium that the Secretary of Commerce will establish under the CHIPS Act. The Selection Committee is responsible for selecting individuals, who will serve as board members and form an independent, non-profit entity that the Department anticipates will serve as the operator of the NSTC. The Department will choose the Selection Committee members from the nominations submitted in response to this FRN. The Selection Committee will act independently of the Department. The Department seeks nominations of individuals for the Selection Committee, who by virtue of their experience and expertise, will identify distinguished, purpose-driven, visionary leaders for the new independent, non-profit entity.

DATES: Nominations for immediate consideration to serve on the Selection Committee must be received on or before 5:00 p.m. EST on May 10, 2023. Nominations will be accepted on an ongoing basis until the deadline.

ADDRESSES: Please submit nominations via email to Kevin Kimball, Senior Advisor, CHIPS R&D Office, U.S. Department of Commerce, NIST, 100 Bureau Drive, MS1000, Gaithersburg, MD 20899; email: FRN@chips.gov.

FOR FURTHER INFORMATION CONTACT: Kevin Kimball, Senior Advisor, CHIPS R&D Office, U.S. Department of Commerce, NIST, 100 Bureau Drive, MS1000, Gaithersburg, MD 20899; email: FRN@chips.gov; telephone: 240-778-3977. For additional information about the national semiconductor technology center, please visit https://www.nist.gov/document/vision-and-strategy-national-semiconductor-technology-center. For media inquiries, please contact Matt Hill at Matt.Hill@chips.gov.

SUPPLEMENTARY INFORMATION:

The NSTC Public Private-Sector Consortium

The Department has a once-in-a-generation opportunity to establish a transformative center for the U.S. to lead in advanced semiconductor R&D, manufacturing, and workforce initiatives for decades to come. The NSTC will provide a platform where government, industry, customers, suppliers, educational institutions, community colleges, large companies, small companies, startups, workforce representatives, investors, and international allies and partners collaborate. A successful NSTC will advance critical semiconductor research and development, while reducing the time and cost of bringing technologies to market. By integrating efforts across a complex ecosystem, the NSTC will expand access to facilities and resources and allow industry, academia and government to build on each other's work. The Department expects that the NSTC will consist of a headquarters facility and an integrated network of NSTC-affiliated technical centers with locations geographically distributed to leverage existing capabilities. It will start an investment fund that enables future innovations in early-stage companies and will create programs that strengthen and expand the semiconductor workforce. To read more about the Department's vision and strategy for the NSTC, see the NSTC White Paper available at https://www.nist.gov/document/vision-and-strategy-national-semiconductor-technology-center.

As set forth in the CHIPS Act,¹ the NSTC will be established by the Secretary of Commerce, in collaboration with the Secretary of Defense, and operated as a public private-sector consortium. The Department has also reviewed the governance structures of various existing consortia and similar research centers to identify the best features to incorporate into the governance of the NSTC. To best effectuate its vision and the goals of the CHIPS Act, the Department has determined that the consortium requires a dedicated operator with world-class leadership and a public interest focus. The Department anticipates that a new, purpose-built, independent, non-profit entity will serve in this role.

¹ “The CHIPS Act” or “the Act” refers to the William M. (Mac) Thornberry National Defense Authorization Act for Fiscal Year 2021, Public Law 116-283, 9901-9908, 134 Stat. 3388, 4843-4860 (2021) (codified at 15 U.S.C. 4651-4657), as amended by the CHIPS Act of 2022, Public Law 117-167, 101-107, 136 Stat. 1366, 1372-1390 (2022) (codified as amended at 15 U.S.C. 4651-4843).

Selection Committee Information

Through this notice, the Department seeks to encourage the formation of this independent, non-profit entity by inviting the public to nominate individuals for the Selection Committee. The Selection Committee will then select the board members that may form a new independent, non-profit entity. The Selection Committee and selected board members will act independently of the Department. The Department seeks nominations of individuals for immediate consideration. The Department will select the Selection Committee members from the nominations submitted in response to this FRN. The Department expects the Selection Committee to be composed of no more than 7 members. The Department will select members to the Selection Committee based on their qualifications and experience relevant to the Committee's task. The Department seeks nominees with a record of exceptional accomplishment in their field. The nominees must have one of the following qualifications:

• Senior executive experience with large, complex, sophisticated organizations (public or private sector); or

• Senior executive experience at large research institutions, educational institutions, foundations, corporations, or companies that make or purchase semiconductors; or

• Record of distinguished service in the public sector, preferably including a high-level government position in national security.

Additional factors that will be considered include:

• Expertise and experience in semiconductors, advanced technology;

• Expertise and experience in economics, finance, management, workforce, business, or entrepreneurship;

• Public or private sector board service;

• Demonstrated commitment to the public interest.

The Department will review all nominations to ensure they meet the requirements of the qualifications criteria. The applications that do will be reviewed by an internal Department committee. Members will be selected in a manner that ensures that the Selection Committee understands the nation's needs for a robust domestic semiconductor ecosystem and workforce. Diverse membership ensures perspectives and expertise reflecting the full breadth of the Selection Committee's responsibilities.

Nominees must be a U.S. citizen or lawful permanent residents of the United States. Self-nominations are welcomed as are other nominations. Nominees may not be a current semiconductor industry executive or Federal employee. Nominees may not be registered as a foreign agent under the Foreign Agents Registration Act or as a lobbyist under the Lobbying Disclosure Act.

Nominees chosen for the Selection Committee will be notified by the Department. Once selected, members of the Selection Committee will serve in their personal capacity and not in a representative capacity on behalf of any other individual, entity, or organization. Members will not advise the Federal Government, perform a Federal Government function, or be Federal employees. Members will not be compensated for their services or reimbursed for their travel expenses.

The Selection Committee shall automatically terminate no later than August 31, 2023.

Nomination Information

All nominations for membership on the Selection Committee should provide the following information:

• Name and relevant contact information (including phone number and email address) of the nominee;

• A short statement (no more than 500 words) of interest in or fit for the role;

• A short biography of relevant credentials;

• An affirmative statement that the nominee meets all eligibility requirements.

Nominations should be emailed to Kevin Kimball, Senior Advisor, CHIPS R&D Office, U.S. Department of Commerce, NIST, 100 Bureau Drive, MS1000, Gaithersburg, MD 20899; email: FRN@chips.gov, and must be received on or before 5:00 p.m. EST on May 10, 2023.

Privacy Act Statement

The collection, maintenance, and disclosure of this information is governed by the Privacy Act of 1974 (5 U.S.C. 552a). The Department of Commerce is authorized to collect this information pursuant to authorities that include but are not limited to: 15 U.S.C. 1512; 15 U.S.C. 4656, 4659. The principal purposes for which the Department will use the information is to assist in choosing members of the Selection Committee. Information received will be maintained in a Privacy Act system of records, COMMERCE/DEPT-23, entitled “Information Collected Electronically in Connection with Department of Commerce Activities, Events, and Programs.” A notice describing that system, including a complete set of routine disclosures, has been published both in the Federal Register and on the Department's website at: https://www.osec.doc.gov/opog/privacyact/SORNs/dept-23.html.

Disclosing this information to the Department of Commerce is voluntary. However, if you do not provide this information, or only provide part of the information requested, you may not be considered for membership on the Selection Committee. The nominations the Department receives for the Selection Committee may be shared with the Selection Committee; the Selection Committee may or may not use the nominations to identify board members to form an independent, non-profit entity that the Department anticipates will serve as the operator of the NSTC. By submitting your application, you agree to these disclosure terms.

Authority: 15 U.S.C. 4656, 4659.

Alicia Chambers,
NIST Executive Secretariat.

[FR Doc. 2023-08591 Filed 4-25-23; 8:45 am]

BILLING CODE 3510-13-P